DEPARTMENT OF HEALTH AND HUMAN SERVICES

Office of the Secretary

Delegation of Authority

Notice is hereby given that I have delegated to the Administrator, Health Resources and Services Administration (HRSA), or his or her successor, the authorities that are vested in the Secretary of Health and Human Services under sections 1833(bb) and 1834(o)(3) of the Social Security Act (42 U.S.C. 1395l and 42 U.S.C. 1395m(o)(3), respectively), as added by section 6083 of the Substance Use—Disorder Prevention that Promotes Opioid Recovery and Treatment (SUPPORT) for Patients and Communities Act, Public Law 115-271. This authorizes the HRSA Administrator, on behalf of the Secretary, to pay Federally Qualified Health Center and Rural Health Clinic for the training costs of eligible physicians and practitioners who obtain Drug Addiction Treatment Act of 2000 waivers to furnish opioid use disorder treatment services. This delegation may not be redelegated and does not confer authority to issue regulations.

This delegation of authorities is effective upon date of signature.

Dated: September 18, 2020.
Alex M. Azar II,
Secretary, Department of Health and Human Services.

[FR Doc. 2020-21098 Filed 9-23-20; 8:45 am]

BILLING CODE 4150-03-P